DEPARTMENT OF LABOR

Agency Information Collection Activities; Submission for OMB Review; Comment Request, Homeless Veterans Reintegration Program (HVRP) Impact Evaluation, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed.

Currently, DOL is soliciting comments concerning the collection of survey data about the HVRP Impact Evaluation. A copy of the proposed Information Collection Request (ICR) can be obtained by contacting the office listed in the addressee section of this notice.

DATES: Written comments must be submitted to the office listed in the addressee's section below on or before April 23, 2018.

ADDRESSES: You may submit comments by either one of the following methods:

Email: ChiefEvaluationOffice@dol.gov; Mail or Courier: Christina Yancey, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Christina Yancey by email at ChiefEvaluationOffice@dol.gov.

SUPPLEMENTARY INFORMATION: I. Background: As the only federal program wholly focused on employment services for veterans experiencing homelessness, HVRP sits at the nexus of these three critical policy arenas: veterans, employment, and housing. Since 1987, HVRP has assisted veterans experiencing homelessness through competitive grants to state, local, and tribal governments; local Workforce Development Boards; private for-project and non-profit organizations; and community organizations. In the most recent Program Year (PY) 2017, DOL announced awards to 155 grantees to support an estimated 21,000 veterans. These are one-year grants; a new set of grantees will receive PY 2018 awards.

The HVRP Impact Evaluation is examining the effectiveness of the HVRP program, building evidence of HVRP's effects on participants' employment and earning-related outcomes. In addition, the evaluation will provide a better understanding of program models and variations, partnerships, and populations served. Goals of the specific data collection plan included in this Notice is to help DOL make informed decisions about what works best for whom and about effective ways to improve the service systems seeking to support veterans experiencing homelessness. The research questions to be answered by the planned data collection pertain to what impact the HVRP has on Veterans experiencing homelessness; how the HVRP impacts vary by individual, grantee, and community characteristics and how they vary by services and referrals available or received; how HVRPs are implemented; and how systems and partnerships are developed and maintained.

This Federal Register Notice provides the opportunity to comment on three proposed data collection instruments that will be used in the evaluation:

* Baseline Information Form. All study-eligible program applicants, that is, those applicants who meet the program's definition of a homeless veteran, will be presented with a consent form prior to the collection of baseline information. Applicants who give their consent will be asked to complete the Baseline Information Form by providing information on their: (1) Demographics and background characteristics, (2) employment history, (3) service-related characteristics, (4) receipt of public assistance, and (5) contact information. It is expected to take the applicant an average of 10 minutes to complete the form.

* Program readiness tool. The program readiness tool will be administered as part of the baseline data collection process after applicant consent. The applicant will answer the simple tool's basic questions about the applicant's motivation and readiness for work. A web-based system will validate data entries and calculate a program readiness score. It is expected to take 5 minutes for the applicant to complete a program readiness tool.

* Grantee Survey. The grantee survey will be administered to all HVPR grantees (as of PY 2018) to collect the following information: (1) Key referral sources for participants, (2) key recruitment sources and challenges, (3) number and type of services, (4) list of services offered on-site and through referrals, (5) key partners and referral sources, (6) type and mode of communication, and (7) types of coordination and collaboration. The survey will be administered via web. It is expected to take the participants an average of 60 minutes to complete the survey.

II. Desired Focus of Comments: Currently, DOL is soliciting comments concerning the above data collection for the HVRP Evaluation. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology- for example, permitting electronic submission of responses.

III. Current Actions: At this time, DOL is requesting clearance for the Baseline Information Form, program readiness tool, and grantee survey. A future information collection request will include protocols for staff interviews, focus groups, and case studies; a partner survey; a front line staff survey; and a participant follow-up survey.

Type of Review: New information collection request.

OMC Control Number: 1290-0NEW

Affected Public: Veterans experiencing homelessness.

Estimated Burden Hours
Type of instrument | Total number respondents | Annual number of respondents | Annual number of responses per respondent | Average burden hour per response (hours) | Annual estimated burden hours
Veteran
Background information form | a 1,440 | 480 | 1 | 0.17 | 80
Program Readiness Tool | a 1,440 | 480 | 1 | 0.08 | 40
Grantee Staff
Grantee Survey | 155 | 52 | 1 | 1 | 51.7
Total | 3,035 | 1,012 |  |  | 171.7
a The Background Information Form and Program Readiness Tool will be collected from all study-eligible applicants who consented to participate in the study. The number of respondents is based on an 85% response rate (1,440).

Comments submitted in response to this request will be summarized and/or included in the request for Office of Management and Budget approval of the information collection request; they will also become a matter of public record.

Dated: February 13, 2018.
Molly Irwin,
Chief Evaluation Officer, U.S. Department of Labor.

[FR Doc. 2018-03553 Filed 2-21-18; 8:45 am]

BILLING CODE 4510-HX-P